DEPARTMENT OF TRANSPORTATION

Federal Aviation Administration

14 CFR Part 39

[Docket No. FAA-2011-1139; Directorate Identifier 2011-CE-021-AD; Amendment 39-16911; AD 2011-27-09]

RIN 2120-AA64

Airworthiness Directives; Socata Airplanes

AGENCY: Federal Aviation Administration (FAA), Department of Transportation (DOT).

ACTION: Final rule.

SUMMARY: We are adopting a new airworthiness directive (AD) for Socata Model TBM 700 airplanes. This AD results from mandatory continuing airworthiness information (MCAI) issued by an aviation authority of another country to identify and correct an unsafe condition on an aviation product. The MCAI describes the unsafe condition as installation of the wrong (switched) aileron control cables in the wing. This unsafe condition could lead to restricted movement of the aileron, resulting in reduced control of the airplane. We are issuing this AD to require actions to address the unsafe condition on these products.

DATES: This AD is effective February 15, 2012.

The Director of the Federal Register approved the incorporation by reference of certain publications listed in the AD as of February 15, 2012.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this proposed AD, contact Socata—Direction des Services—65921 Tarbes Cedex 9—France; telephone +33 (0) 62 41 7300, fax +33 (0) 62 41 76 54, or for North America: Socata North America, 7501 South Airport Road, North Perry Airport (HWO), Pembroke Pines, Florida 33023; telephone: (954) 893-1400; fax: (954) 964-4141; email: mysocata@socata.daher.com; Internet: http://mysocata.com. You may review copies of the referenced service information at the FAA, Small Airplane Directorate, 901 Locust, Kansas City, Missouri 64106. For information on the availability of this material at the FAA, call (816) 329-4148.

FOR FURTHER INFORMATION CONTACT: Albert Mercado, Aerospace Engineer, FAA, Small Airplane Directorate, 901 Locust, Room 301, Kansas City, Missouri 64106; telephone: (816) 329-4119; fax: (816) 329-4090; email: albert.mercado@faa.gov.

SUPPLEMENTARY INFORMATION:

Discussion

We issued a notice of proposed rulemaking (NPRM) to amend 14 CFR part 39 to include an AD that would apply to the specified products. That NPRM was published in the Federal Register on October 21, 2011 (76 FR 65419). That NPRM proposed to correct an unsafe condition for the specified products. The MCAI states:

A TBM 700 operator reported a case of inverted installation of aileron control cables in the wing. The shortest cable was found installed instead of the longest one on wing tip side, with left hand (LH) threaded end in upper section. This wrong installation could have been caused by mistaken maintenance data.

This condition, if not detected and corrected, could lead to restricted movement of the aileron, resulting in reduced control of the aeroplane, particularly when operating under adverse flight conditions on landing and during avoidance manoeuvres.

For the reasons described above, this AD requires an inspection to verify the correct installation of the aileron control cables and, in case of discrepancies, proper re-installation of the cables in accordance with the approved design configuration.

Even with potentially reduced aileron deflection, Socata's analysis shows that the airplane is still capable of achieving its published cross wind landing limits.

Comments

We gave the public the opportunity to participate in developing this AD. We received no comments on the NPRM or on the determination of the cost to the public.

Conclusion

We reviewed the available data and determined that air safety and the public interest require adopting the AD as proposed.

Costs of Compliance

We estimate that this AD will affect 404 products of U.S. registry. We also estimate that it would take about 0.5 work-hour per product to comply with the basic requirements of this AD. The average labor rate is $85 per work-hour. Required parts would cost about $0 per product.

Based on these figures, we estimate the cost of the AD on U.S. operators to be $17,170, or $43 per product.

In addition, we estimate that any necessary follow-on actions would take about 16 work-hours and require parts costing $0, for a cost of $1,360 per product. We have no way of determining the number of products that may need these actions.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-27-09 Socata: Amendment 39-16911; Docket No. FAA-2011-1139; Directorate Identifier 2011-CE-021-AD.

(a) Effective Date

This airworthiness directive (AD) becomes effective February 15, 2012.

(b) Affected ADs

None.

(c) Applicability

This AD applies to Socata Model TBM 700 airplanes, serial numbers (SN) 1 through 572, 574, and 576, certificated in any category.

(d) Subject

Air Transport Association of America (ATA) Code 27: Flight Controls.

(e) Reason

The MCAI describes the unsafe condition as installation of the wrong (switched) aileron control cables in the wing. This unsafe condition could lead to restricted movement of the aileron, resulting in reduced control of the airplane. We are issuing this AD to require actions to address the unsafe condition on these products.

(f) Actions and Compliance

Unless already done, do the following actions:

(1) Within 12 months after February 15, 2012 (the effective date of this AD) or within 100 hours time-in-service (TIS) after February 15, 2012 (the effective date of this AD), whichever occurs first, inspect the aileron control cables in left and right wings for proper installation following the accomplishment instructions of Daher-Socata Mandatory Service Bulletin SB 70-191-27, dated April 2011.

(2) If during the inspection required by paragraph (f)(1) of this AD you find the cables are improperly installed, before further flight, remove the cables and correctly re-install the cables following the accomplishment instructions of Daher-Socata Mandatory Service Bulletin SB 70-191-27, dated April 2011.

(3) After February 15, 2012 (the effective date of this AD), after each removal of the aileron control cables, you must re-install using the maintenance manual temporary revisions below:

(i) For S/N 1 through 433: Socata TBM 700 Model Maintenance Manual Temporary Revision No. TR040.27, dated April 2011.

(ii) For S/N 434 through 572, 574 and 576: Socata TBM 850 Maintenance Manual Temporary Revision No. TR015.27, dated April 2011.

(g) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2011-0101, dated May 25, 2011; Daher-Socata Mandatory Service Bulletin SB 70-191-27, dated April 2011; Socata TBM 700 Model Maintenance Manual Temporary Revision No. TR040.27, dated April 2011; and Socata TBM 850 Maintenance Manual Temporary Revision No. TR015.27, dated April 2011, for related information.

(i) Material Incorporated by Reference

(1) You must use the following service information to do the actions required by this AD, unless the AD specifies otherwise. The Director of the Federal Register approved the incorporation by reference (IBR) of the following service information under 5 U.S.C. 552(a) and 1 CFR part 51:

(i) DAHER-SOCATA Mandatory Service Bulletin SB 70-191-27, dated April 2011;

(ii) Socata TBM 700 Model Maintenance Manual Temporary Revision No. TR040.27, dated April 2011; and

(iii) Socata TBM 850 Maintenance Manual Temporary Revision No. TR015.27, dated April 2011.

(2) For service information related to this AD, contact Socata—Direction des Services—65921 Tarbes Cedex 9—France; telephone +33 (0) 62 41 7300, fax +33 (0) 62 41 76 54, or for North America: Socata North America, 7501 South Airport Road, North Perry Airport (HWO), Pembroke Pines, Florida 33023; telephone: (954) 893-1400; fax: (954) 964-4141; email: mysocata@socata.daher.com; Internet: http://mysocata.com.

(3) You may review copies of the referenced service information at the FAA, Small Airplane Directorate, 901 Locust, Kansas City, Missouri 64106. For information on the availability of this material at the FAA, call (816) 329-4148.

(4) You may also review copies of the service information that is incorporated by reference at the National Archives and Records Administration (NARA). For information on the availability of this material at an NARA facility, call (202) 741-6030, or go to http://www.archives.gov/federal_register/code_of_federal_regulations/ibr_locations.html.

Issued in Kansas City, Missouri, on January 3, 2012.
Earl Lawrence,
Manager, Small Airplane Directorate, Aircraft Certification Service.

[FR Doc. 2012-122 Filed 1-10-12; 8:45 am]

BILLING CODE 4910-13-P